DEPARTMENT OF TRANSPORTATION

Federal Aviation Administration

Notice of Intent to Rule on Application to Impose and Use the Revenue From a Passenger Facility Charge (PFC) at Honolulu International, Kahului, Kona International, and Lihue Airports, HI

AGENCY: Federal Aviation Administration (FAA), DOT.

ACTION: Notice of intent to rule on application.

SUMMARY: The FAA proposes to rule and invites public comment on the application to impose and use the revenue from a PFC at Honolulu International (HNL), Kahului (OGG), Kona International (KOA), and Lihue (LIH) Airports under the provisions of the 49 United States Code (U.S.C.) section 40117 and part 158 of the Federal Aviation Regulations (14 CFR part 158).

DATES: Comments must be received on or before May 26, 2004.

ADDRESSES: Comments on this application may be mailed or delivered in triplicate to the FAA at the following address: Federal Aviation Administration, Airports Division, 15000 Aviation Blvd., Room 3012, Lawndale, CA 90261, or Honolulu Airports District Office, Box 50244, 300 Ala Moana Blvd., Room 7-128, Honolulu, HI 96850. In addition, one copy of any comments submitted to the FAA must be mailed or delivered to Mr. Brian H. Sekiguchi, Deputy Director, State of Hawaii, Department of Transportation (DOT), at the following address: 400 Rodgers Blvd., Suite 700, Honolulu, HI 96819-1880. Air carriers and foreign air carriers may submit copies of written comments previously provided to the State of Hawaii DOT, under § 158.23 of part 158.

FOR FURTHER INFORMATION CONTACT: Steven Y. Wong, Civil Engineer, Honolulu Airports District Office, 300 Ala Moana Blvd., Room 7-128, Honolulu, HI 96850, Telephone: (808) 541-1225. The application may be reviewed in person at this same location.

SUPPLEMENTARY INFORMATION: The FAA proposes to rule and invites public comment on the application to impose and use the revenue from a PFC at Honolulu International, Kahului, Kona International, and Lihue Airports under the provisions of the 49 U.S.C. 40117 and part 158 of the Federal Aviation Regulations (14 CFR part 158).

On March 19, 2004, the FAA determined that the application to impose and use the revenue from a PFC submitted by the State of Hawaii DOT was substantially complete within the requirements of § 158.25 of part 158. The FAA will approve or disapprove the application, in whole or in part, no later than June 19, 2004.

The following is a brief overview of the impose and use application Nos. 04-01-C-00-HNL, 04-01-C-00-KOA, and 04-01-C-00-LIH:

Level of proposed PFC: $3.00.

Proposed charge effective date: October 1, 2004.

Proposed charge expiration date: February 1, 2007.

Total estimated PFC revenue: $42,632,466.

Brief description of the proposed projects: Perimeter Road Improvements, Fencing, and General Aviation Apron Lighting at KOA; Perimeter Road and Fencing at LIH; Runway Safety Area Improvements at OGG; Perimeter Road Improvements and Fencing at OGG; Flight Information Display System and Public Address System Improvements at HNL; Air Conditioning System Improvements at HNL; Environmental Compliance Measure for South Ramp at HNL.

Class or classes of air carriers which the public agency has requested not be required to collect PFCs: None (all interisland flight segments between two or more points in Hawaii are categorically excluded from PFC collections.)

Any person may inspect the application in person at the FAA office listed above under FOR FURTHER INFORMATION CONTACT and at the FAA Regional Airports Division located at: Federal Aviation Administration, Airports Division, Room 3012, 15000 Aviation Blvd., Lawndale, CA 90261. In addition, any person may, upon request, inspect the application, notice and other documents germane to the application in person at the State of Hawaii DOT, Airports Division.

Issued in Lawndale, California, on March 31, 2004.
Mark A. McClardy,
Manager, Airports Division, Western-Pacific Region.

[FR Doc. 04-9405 Filed 4-23-04; 8:45 am]

BILLING CODE 4910-13-M